DEPARTMENT OF HOUSING AND URBAN DEVELOPMENT

[Docket No. FR-6104-N-02]

Announcement of the Housing Counseling Federal Advisory Committee; Notice of Public Meeting

AGENCY: Office of the Assistant Secretary for Housing—Federal Housing Commissioner, Department of Housing and Urban Development (HUD).

ACTION: Notice of Housing Counseling Federal Advisory Committee public meeting.

SUMMARY: This gives notice of a Housing Counseling Federal Advisory Committee (HCFAC) meeting and sets forth the proposed agenda. The Committee meeting will be held on Wednesday, May 22, 2019. The meeting is open to the public and is accessible to individuals with disabilities. This notice is being published less than 15 days prior to the meeting date due to unforeseen administrative delays.

DATES: The meeting will be held on Wednesday, May 22, 2019 starting at 9:00 a.m. Eastern Daylight Time (EDT) at HUD Headquarters, 451 7th Street SW, Washington, DC 20410 and via teleconference.

FOR FURTHER INFORMATION CONTACT: Virginia F. Holman, Housing Specialist, Office of Housing Counseling, U.S. Department of Housing and Urban Development, 600 East Broad Street, Richmond VA 23219; telephone number 540-894-7790 (this is not a toll-free number); email virginia.f.holman@hud.gov. Individuals with speech or hearing impairments may access this number through TTY by calling the toll-free Federal Relay at 1-800-877-8339. Individuals may also email HCFACCommittee@hud.gov.

SUPPLEMENTARY INFORMATION: HUD is convening the meeting of the HCFAC on Wednesday, May 22, 2019 from 9:00 a.m. to 4:00 p.m. ET. The meeting will be held at HUD Headquarters, 451 7th Street SW, Washington, DC 20410 and via teleconference at 1-800-231-0316, Passcode 1519. This meeting notice is provided in accordance with the Federal Advisory Committee Act, 5. U.S.C. App. 10(a)(2).

Draft Agenda—Housing Counseling Federal Advisory Committee Meeting—May 22, 2019

I. Welcome

II. Advisory Committee Discussion

III. Public Comment

IV. Next Steps

V. Adjourn

Registration

The public is invited to attend this one-day meeting in-person or by phone. Advance registration is required to participate. To register to attend, please visit the following link: https://pavr.wufoo.com/forms/z41lur512g70uy/.

After completing the pre-registration process at the above link, in-person attendees will receive details about the meeting location and how to access the building. Call-in participants will be asked by an operator to provide their names and their organizational affiliations (if applicable) to ensure they are part of the pre-registration list. Callers can expect to incur charges for calls they initiate over wireless lines and HUD will not refund any incurred charges. Callers will incur no charge for calls they initiate over land-line connections to the toll-free phone number. Individuals with speech or hearing impairments may follow the discussion by first calling the toll-free Federal Relay FRS: 1-800-977-8339 and provide the operator with the conference call number: 1-800-231-0316, Passcode: 1519.

Comments

With advance registration, members of the public will have an opportunity to provide oral and written comments relative to agenda topics for the Committee's consideration. To provide oral comments, please be sure to indicate this on the registration link. The total amount of time for oral comments will be 15 minutes with each commenter limited to two minutes to ensure pertinent Committee business is completed. Written comments must be provided no later than May 15, 2019 to HCFACCommittee@hud.gov. Please note, written statements submitted will not be read during the meeting. The Committee will not respond to individual written or oral statements however, it will take all public comments into account in its deliberations.

Meeting Records

Records and documents discussed during the meeting, as well as other information about the work of this Committee, will be available for public viewing as they become available at: https://www.facadatabase.gov/FACA/apex/FACAPublicCommittee?id=a10t0000001gzvQAAQ.Information on the Committee is also available on HUD Exchange at: https://www.hudexchange.info/programs/housing-counseling/federal-advisory-committee/.

Dated: May 6, 2019.
John L. Garvin,
General Deputy Assistant Secretary for Housing.

[FR Doc. 2019-09674 Filed 5-9-19; 8:45 am]

BILLING CODE 4210-67-P